PEACE CORPS

22 CFR Part 303

RIN 0420-AA29

Freedom of Information Act Administration

AGENCY: Peace Corps.

ACTION: Proposed rule; correction.

SUMMARY: The Peace Corps is correcting a typographical error in a proposed rule that appeared in the Federal Register of August 7, 2013. The proposed rule updates Peace Corps regulations on the Freedom of Information Act (FOIA) to implement guidance given by the President and the Attorney General regarding discretionary disclosures of records or information exempt from disclosure under the FOIA, whenever disclosure would not foreseeably harm an interest protected by a FOIA exemption. The proposed rule is based on language used by Department of Justice in its FOIA regulations. Additionally, the proposed rule deletes unnecessary and superfluous language and ensures the rule is consistent with current law.

FOR FURTHER INFORMATION CONTACT: Anne Passmore, 202-692-2164.

Correction

In proposed rule FR Doc. 2013-19050 published on August 7, 2013 (78 FR 48083), make the following correction:

On page 48084, in the third column, third paragraph, in § 303.10(c)(2)(ii), remove “Executive Order 13525” and add “Executive Order 13526” in its place.

Dated: August 22, 2013.
Garry W. Stanberry,
Deputy Associate Director, Management.

[FR Doc. 2013-20926 Filed 8-27-13; 8:45 am]

BILLING CODE 6051-01-P